FEDERAL COMMUNICATIONS COMMISSION

[OMB 3060-0743, OMB 3060-1298; FR ID 277468]

Information Collections Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might “further reduce the information collection burden for small business concerns with fewer than 25 employees.” The Commission may not conduct or sponsor a collection of information unless it displays a currently valid Office of Management and Budget (OMB) control number. No person shall be subject to any penalty for failing to comply with a collection of information subject to the PRA that does not display a valid OMB control number.

DATES: Written comments and recommendations for the proposed information collection should be submitted on or before March 26, 2025.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Nicole Ongele, FCC, via email to PRA@fcc.gov and to Nicole.Ongele@fcc.gov. Include in the comments the OMB control number as shown in the SUPPLEMENTARY INFORMATION below.

FOR FURTHER INFORMATION CONTACT: For additional information or copies of the information collection, contact Nicole Ongele at (202) 418-2991. To view a copy of this information collection request (ICR) submitted to OMB: (1) go to the web page https://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control Number: 3060-0743.

Title: Implementation of the Pay Telephone Reclassification and Compensation Provisions of the Telecommunications Act of 1996, CC Docket No. 96-128.

Form Number: N/A.

Type of Review: Extension of a currently approved collection.

Respondents: Business or other for-profit.

Number of Respondents and Responses: 4,471 respondents; 10,071 responses.

Estimated Time per Response: 0.50-100 hours.

Frequency of Response: On occasion, monthly and quarterly reporting requirements, recordkeeping requirement and third party disclosure requirement.

Obligation to Respond: Required to obtain or retain benefits. Statutory authority for this collection of information is contained in 47 U.S.C. 276 of the Telecommunications Act of 1996.

Total Annual Burden: 118,137 hours.

Need and Uses: This collection of information implements the following requirements under section 276 of the Telecommunications Act of 1996. They are: (a) state showing of proof of market failure for exception to market-rate local coin call requirement; (b) state review of adequacy of provision of public interest payphone; (c) payphone providers' transmission of specific payphone coding digits; (d) LEC verification of disputed ANIS and maintaining and making available the verification data; (e) LEC timely notification of payphone disconnection; (f) LEC indication on the payphone's monthly bill that the amount due is for payphone service; (g) LEC tariff filing; (h) reclassification of LEC-owned payphones; (i) payphone provider's verification of its status to payer of compensation; (j) payphone providers' posting of local coin call rate on each payphone placard; and (k) LEC provision of emergency numbers to carrier-payers.

OMB Control Number: 3060-1298.

Title: Volunteer Service Agreement Form, FCC Form A-384.

Form No.: FCC Form A-384.

Type of Review: Revision of a currently approved collection.

Respondents: Individuals or households.

Number of Respondents and Responses: 140 respondents and 140 responses.

Estimated Time per Response: 0.25 hours.

Frequency of Response: One-time reporting requirement.

Obligation to Respond: Mandatory. The statutory authority to collect this information derives from 5 U.S.C. 3111, Acceptance of volunteer service.

Total Annual Burden: 35 hours.

Total Annual Cost: No Cost.

Needs and Uses: The Civil Service Reform Act of 1978 authorized Federal agencies to establish programs designed to provide educationally related work assignments for students in a non-pay status. The Act provides that heads of agencies may accept, subject to regulations issued by the Office of Personnel Management, volunteer service for the United States if the service (1) is performed by a student, with permission of the institution at which the student is enrolled; (2) is to be uncompensated; and (3) will not displace any employee. Form A-384 establishes the responsibility of students, their institutions, and the FCC as a precondition to accepting individuals as unpaid volunteers.

Federal Communications Commission.
Marlene Dortch,
Secretary, Office of the Secretary.

[FR Doc. 2025-02960 Filed 2-21-25; 8:45 am]

BILLING CODE 6712-01-P